DEPARTMENT OF COMMERCE

International Trade Administration

[C-475-812]

Grain-Oriented Electrical Steel From Italy: Extension of Preliminary Results of Countervailing Duty Administrative Review

AGENCY: Import Administration, International Trade Administration, Department of Commerce.

ACTION: Notice of Extension of Time Limit for Preliminary Results of Countervailing Duty Administrative Review.

EFFECTIVE DATE: January 20, 2000.

FOR FURTHER INFORMATION CONTACT: Kristen Johnson at 202-482-4406, Office of AD/CVD Enforcement VI, Group II, Import Administration, International Trade Administration, U.S. Department of Commerce, 14th Street and Constitution Ave, NW, Washington, DC 20230.

Statutory Time Limits

Section 751(a)(3)(A) of the Tariff Act of 1930, as amended (the Act), requires the Department to make a preliminary determination within 245 days after the last day of the anniversary month of an order/finding for which a review is requested and a final determination within 120 days after the date on which the preliminary determination is published. However, if it is not practicable to complete the review within the time period, section 751(a)(3)(A) of the Act allows the Department to extend these deadlines to a maximum of 365 days and 180 days, respectively.

Background

On July 29, 1999, the Department published a notice of initiation of administrative review of the countervailing duty order on grain-oriented electrical steel from Italy, covering the period January 1, 1998 through December 31, 1998 (see 64 FR 41075). The preliminary results are currently due no later than February 29, 2000.

Extension of Preliminary Results of Review

We determine that it is not practicable to complete the preliminary results of this review within the original time limit. Therefore, the Department is extending the time limits for completion of the preliminary results until no later than June 29, 2000. See Decision Memorandum from Holly A. Kuga, Acting Deputy Assistant Secretary, to Robert S. LaRussa, Assistant Secretary, dated January 4, 2000, which is on file in the Central Records Unit. We intend to issue the final results no later than 120 days after the publication of the preliminary results notice.

This extension is in accordance with section 751(a)(3)(A) of the Act.

Dated: January 12, 2000.
Holly A. Kuga,
Acting Deputy Assistant Secretary, Import Administration, Group II.

[FR Doc. 00-1372 Filed 1-19-00; 8:45 am]

BILLIING CODE 3510-DS-P